DEPARTMENT OF ENERGY

Federal Energy Regulatory Commission

[Project No. 1494-172 Oklahoma]

Grand River Dam Authority; Notice of Availability of Draft Environmental Assessment

March 24, 2000.

In accordance with the National Environmental Policy Act of 1969 and the Federal Energy Regulatory Commission's regulations, 18 CFR Part 380 (Order No. 486, 52 FR 47910), the Office of Energy Projects has prepared a draft environmental assessment (DEA) on the Grand River Dam Authority's application for approval of a new commercial dock facility. The Grand River Dam Authority proposes to permit Lewis Perrault, d/b/a Lewie Development Company (permittee), to construct and operate a commercial dock facility on Grand Lake's Grand Craft Cove, about 2 miles from the Pensacola Dam. The proposed facility includes nine boat slips and an area for swimming and temporary boat mooring and will be used in conjunction with the permittee's planned commercial development on his adjoining property. The Pensacola Project is on the Grand River, in Craig, Delaware, Mayes, and Ottawa Counties, Oklahoma.

In the DEA, staff concludes that approval of the proposed action would not constitute a major Federal action significantly affecting the quality of the human environment. Copies of the DEA can be obtained by calling the Commission's Public Reference Room at (202) 208-1371. Copies of the DEA can also be obtained through the Commission's homepage at http://www.ferc.fed.us.

Please submit any comments within 30 days from the date of this notice. Comments should be addressed to: Mr. David P. Boergers, Secretary, Federal Energy Regulatory Commission, 888 First Street, NE, Washington, DC 20426. Please affix Project No. 1494-172 to all comments. For further information, please contact the project manager, Jon Cofrancesco at (202) 219-0079 or at e-mail address Jon.Cofrancesco@ferc.fed.us.

David P. Boergers,
Secretary.

[FR Doc. 00-7791 Filed 3-29-00; 8:45 am]

BILLING CODE 6717-01-M